DEPARTMENT OF ENERGY

Federal Energy Regulatory Commission

Notice

November 9, 2006.

The following notice of meeting is published pursuant to section (a) of the government in the Sunshine Act (Pub. L. No. 94-409), 5 U.S.C 552b:

AGENCY HOLDING MEETING: Federal Energy Regulatory Commission, DOE.

DATE AND TIME: November 16, 2006, 10 a.m.

PLACE: Room 2c, 888 First Street, NE., Washington, DC 20426.

STATUS: Open.

MATTERS TO BE CONSIDERED: Agenda.

Note: Items listed on the agenda may be deleted without further notice.

CONTACT PERSON FOR MORE INFORMATION: Magalie R. Salas, Secretary, Telephone (202) 502-8400.

For a recording listing items struck from or added to the meeting, call (202) 502-8627.

This is a list of matters to be considered by the Commission. It does not include a listing of all papers relevant to the items on the agenda; however, all public documents may be examined in the Public Reference Room.

910th—Meeting

Regular Meeting

November 16, 2006—10 a.m.

Item No. | Docket No. | Company
ADMINISTRATIVE AGENDA
A-1 | AD02-1-000 | Agency Administrative Matters.
A-2 | AD02-7-000 | Customer Matters, Reliability, Security and Market Operations.
A-3 | AD06-3-000 | Energy Market Update.
ELECTRIC
E-1 | RM06-8-001 | Long-Term Firm Transmission Rights in Organized Electricity Markets.
E-2 | EL01-88-004 | Louisiana Public Service Commission v. Entergy Services Inc., et al.
E-3 | ER05-17-002 | Trans-Elect NTD Path 15, LLC.
E-4 | EL02-107-001 EL02-107-002 | Duke Energy Hinds, LLC, Duke Energy Hot Spring, LLC, Duke Energy Southaven, LLC, Duke Energy North America, LLC v. Entergy Services, Inc., and Entergy Operating Companies.
| ER02-405-004 ER02-405-005 | Entergy Services, Inc.
E-5 | ER06-278-000 ER06-278-001 ER06-278-002 ER06-278-003 ER06-278-004 | The Nevada Hydro Company, Inc.
E-6 | ER06-1513-000 | ISO New England Inc.
E-7 | ER06-1094-003 | ISO New England Inc.
E-8 | OMITTED
E-9 | ER06-1094-001 | Western Electricity Coordinating Council.
E-10 | ER06-1094-004 | New York Independent System Operator, Inc.
E-11 | ER06-1094-009 | California Independent System Operator.
E-12 | ER06-1094-007 | NorthWestern Corporation.
E-13 | EL00-95-135 EL00-95-188 | San Diego Gas & Electric Company v. Sellers of Energy and Ancillary Services Into Markets Operated by the California Independent System Operator and the California Power Exchange Corporation.
| EL00-98-122 EL00-98-173 | Investigation of Practices of the California Independent System Operator Corporation and the California Power Exchange.
E-14 | ER03-171-002 ER03-171-003 ER03-171-004 ER03-171-005 | Entergy Mississippi, Inc.
E-15 | ER04-981-000 | Connecticut Yankee Atomic Power Co.
E-16 | OMITTED
E-17 | EL04-137-000 EL04-137-001 | Cabazon Wind Partners, LLC v. Southern California Edison Company.
E-18 | OMITTED
E-19 | ER06-451-003 | Southwest Power Pool, Inc.
MISCELLANEOUS
M-1 | RM07-1-000 | Revisions to, and Interpretations of, the Standards of Conduct for Transmission Providers.
GAS
G-1 | RP06-437-000 | Northern Natural Gas Company.
HYDRO
H-1 | P-2042-031 P-2042-086 | Public Utility District No. 1 of Pend Oreille County, Washington.
H-2 | OMITTED
H-3 | P-2833-094 | Public Utility District No. 1 of Lewis County, Washington.
H-4 | P-2539-023 P-2539-024 P-2539-025 P-2539-026 P-2539-027 P-2539-028 P-2539-029 P-2539-030 | Erie Boulevard Hydropower, L.P.
H-5 | P-2192-002 | Consolidated Water Power Company.
CERTIFICATES
C-1 | RM05-23-001 AD04-11-001 | Rate Regulation of Certain Natural Gas Storage Facilities.
C-2 | RM06-12-000 | Regulations for Filing Applications for Permits to Site Interstate Electric Transmission Facilities.
C-3 | CP04-411-001 | Crown Landing LLC.

Magalie R. Salas,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Perkowski or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E6-19444 Filed 11-15-06; 8:45 am]

BILLING CODE 6717-01-P